DEPARTMENT OF STATE

[Public Notice 7307]

60-Day Notice of Proposed Information Collection: Form DS-1998E, Foreign Service Officer Test Registration Form

AGENCY: Department of State.

ACTION: Notice of Request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Registration for the Foreign Service Officer Test.

• OMB Control Number: 1405-0008.

• Type of Request: Extension of a Currently Approved Collection.

• Originating Office: Human Resources, HR/REE/BEX.

• Form Number: DS-1998E.

• Respondents: Registrants for the Foreign Service Officer Test.

• Estimated Number of Respondents: 30,000.

• Estimated Number of Responses: 30,000.

• Average Hours per Response: 2 hours.

• Total Estimated Burden: 60,000.

• Frequency: Thrice annually.

• Obligation to Respond: Required to Obtain or Retain a Benefit.

DATES: The Department will accept comments from the public up to 60 days from January 25, 2011.

ADDRESSES: You may submit comments by any of the following methods:

E-mail: RosenberrySA@state.gov.

Mail (paper, disk, or CD-ROM submissions): Sara Rosenberry, HR/REE/BEX, SA-44, 301 4th St., SW., Room 324, Washington, DC 20547.

Fax: (202) 923-6472.

FOR FURTHER INFORMATION CONTACT: Sara Rosenberry, Director, HR/REE/BEX, SA-44, 301 4th St., SW., Room 324, Washington, DC 20547, tel: (202) 203-5117.

SUPPLEMENTARY INFORMATION:

We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Individuals registering for the Foreign Service Officer Test will complete a Registration Form that consists of an application form that includes information about their name, age, Social Security Number, contact information, sex, race, national origin, disability, education and work history, and military experience. The information will be used to prepare and issue admission to the Foreign Service Officer Test, to provide data useful for improving future tests, and to conduct research studies based on the test results.

Methodology

Responses are submitted electronically.

Dated: January 13, 2011.
Ruben Torres,
Executive Director, HR/EX, Department of State.

[FR Doc. 2011-1487 Filed 1-24-11; 8:45 am]

BILLING CODE 4710-15-P